DEPARTMENT OF COMMERCE

International Trade Administration

[A-552-814]

Utility Scale Wind Towers From the Socialist Republic of Vietnam: Notice of Amended Initiation of Antidumping Duty Administrative Review; 2016-2017

AGENCY: Enforcement and Compliance, International Trade Administration, Commerce.

DATES: Effective May 31, 2017.

FOR FURTHER INFORMATION CONTACT: Trisha Tran, AD/CVD Operations, Office IV, Enforcement and Compliance, International Trade Administration, U.S. Department of Commerce, 1401 Constitution Avenue NW., Washington, DC 20230; telephone: (202) 482-4852.

SUPPLEMENTARY INFORMATION:

Background

In the amended final determination and antidumping duty order of this underlying investigation, the Department of Commerce (the Department) determined that CS Wind Vietnam Co., Ltd., and CS Wind Corporation are a single entity: The CS Wind Group.¹ On March 16, 2017, the United States Court of International Trade (CIT) issued its final judgment, sustaining the Department's final results of redetermination concerning the less-than-fair value investigation of utility scale wind towers (wind towers) from the Socialist Republic of Vietnam (Vietnam).² On March 29, 2017, pursuant to that Court decision, effective March 26, 2017, the Department excluded from the antidumping duty order wind towers that are produced and exported by The CS Wind Group.³

¹ See Utility Scale Wind Towers from the Socialist Republic of Vietnam: Final Determination of Sales at Less Than Fair Value, 77 FR 75984 (December 26, 2012), as amended by Utility Scale Wind Towers from the Socialist Republic of Vietnam: Amended Final Determination of Sales at Less Than Fair Value and Antidumping Duty Order, 78 FR 11150, 11152 (February 15, 2013) (Wind Towers Amended Final Determination)(where the Department stated, “The CS Wind Group consists of CS Wind Vietnam Co., Ltd. and CS Wind Corporation.”).

² See CS Wind Vietnam Co., Ltd., and CS Wind Corporation v. United States, Slip Op. 17-26 (CIT 2017).

³ See Utility Scale Wind Towers from the Socialist Republic of Vietnam: Notice of Court Decision Not in Harmony with the Final Determination of Less Than Fair Value Investigation and Notice of Amended Final Determination of Investigation, 82 FR 15493 (March 29, 2017).

Amendment to the Initiation

On April 10, 2017, the Department published a notice of initiation of an administrative review of the antidumping duty order on wind towers from Vietnam for the period February 1, 2016, through January 31, 2017.⁴ In the Initiation Notice, the Department inadvertently initiated an administrative review on all entries of merchandise exported by CS Wind Group. Because wind towers that are produced and exported by CS Wind Group were excluded from the antidumping duty order on wind towers from Vietnam effective March 26, 2017, the Department should only have initiated the administrative review on wind towers produced in Vietnam with respect to the CS Wind Group where CS Wind Group was (1) the producer but not the exporter, or (2) the exporter but not the producer. To correct this error in the Initiation Notice, the Department is now issuing this notice of amended initiation of the 2016-2017 antidumping duty administrative review of wind towers from Vietnam with respect to the CS Wind Group. The Department is initiating an administrative review only on entries where CS Wind Group was (1) the producer but not the exporter, or (2) the exporter but not the producer of subject merchandise. The initiation with respect to Vina Halla Heavy Industries Ltd. and UBI Tower Sole Member Company Ltd., remains unchanged.

⁴ See Initiation of Antidumping and Countervailing Duty Administrative Reviews, 82 FR 17188 (April 10, 2017) (Initiation Notice).

Deadline for Withdrawal of Request for Administrative Review

Pursuant to 19 CFR 351.213(d)(1), a party that has requested a review may withdraw that request within 90 days of the date of publication of the notice of initiation of the requested review. The Initiation Notice was published on April 10, 2017. Accordingly, the current deadline for withdrawal of request for this administrative review is July 10, 2017.⁵

⁵ 90 days after the publication of the Initiation Notice would place the deadline on a Sunday, July 9, 2017. The Department's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This amended initiation is issued and published in accordance with section 751(a) of the Tariff Act of 1930, as amended, and 19 CFR 351.221(c)(1)(i).

Dated: May 24, 2017.
Gary Taverman,
Deputy Assistant Secretary for Antidumping and Countervailing Duty Operations.

[FR Doc. 2017-11205 Filed 5-30-17; 8:45 am]

BILLING CODE 3510-DS-P